DEPARTMENT OF COMMERCE

National Oceanic and Atmospheric Administration

National Estuarine Research Reserve System; North Inlet-Winyah Bay, SC and San Francisco Bay, CA; Revised Management Plans

AGENCY: Estuarine Reserves Division, Office of Ocean and Coastal Resource Management, National Ocean Service, National Oceanic and Atmospheric Administration, U.S. Department of Commerce.

ACTION: Notice of final approval and availability of the revised management plans for the following National Estuarine Research Reserves: North Inlet-Winyah Bay, SC and San Francisco Bay, CA.

SUMMARY: The Estuarine Reserves Division, Office of Ocean and Coastal Resource Management, National Ocean Service, National Oceanic and Atmospheric Administration (NOAA), U.S. Department of Commerce has approved the Management Plan Revisions of the North Inlet-Winyah Bay National Estuarine Research Reserve and San Francisco Bay National Estuarine Research Reserve.

The revised management plan for the North Inlet-Winyah Bay, SC National Estuarine Research Reserve outlines the administrative structure; the education, training, stewardship, and research programs of the reserve; and the plans for future land acquisition and facility development to support reserve operations. The goals described in this plan provide a framework that supports program integration based on priority issues defined by the reserve. The objectives described in this plan address the most critical coastal issues in North Inlet-Winyah Bay such as impacts from coastal and watershed development, climate events on coastal ecosystems and human communities, and invasive species and habitat loss impacts on biodiversity.

Since the last approved management plan in 1992, the reserve has become fully staffed; added a Coastal Training Program that delivers science-based information to key decision makers; and added significant monitoring of emergent marsh vegetation, invasive species, water quality, and bird populations. In addition to programmatic and staffing advances, the reserve upgraded its headquarters building with a 4,500 square foot structure to support research, stewardship, and the coastal training programs that includes six offices, a monitoring lab, and library. In cooperation with the Belle W. Baruch Foundation, a 12,500 square foot education facility was developed to support reserve educational programs and includes interpretive exhibits, aquaria, classrooms, and education staff offices, as well as an outdoor classroom. This plan can be accessed at http://www.northinlet.sc.edu.

The revised management plan for the San Francisco Bay National Estuarine Research Reserve outlines a framework of overarching goals and program specific objectives that will guide the education, training, research, and developing stewardship programs of the reserve; describes land acquisition and boundary expansion; as well as outlines plans for facility use and development to support reserve operations. The goals and objectives put forth in this plan focus programmatic efforts on four critical issues that affect the reserve's ability to conserve ecological communities in support of the Bay's growing population: Climate change, species interactions, water quality, and habitat restoration. Broadly, the goals for each of these issues include increasing knowledge, understanding effects, and improving the ability of partners and stakeholders to respond to these issues. The goals described in this plan provide a framework that supports program integration for collaborative management of the San Francisco Bay National Estuarine Research Reserve.

Since the last approved management plan in 2003, the reserve has hired a full complement of core staff; established a research lab, fully operational System-wide Monitoring Program, and Graduate Research Fellowship Program; added a Coastal Training Program that delivers science-based information to key decision makers; developed education programs focused on sharing estuarine research with non-academic audiences; and constructed facilities to support essential functions of the reserve at its headquarters on the Romberg Tiburon Center campus of San Francisco State University. These facilities include office space for staff, classroom space, laboratory, and meeting facilities. The reserve has also constructed facilities and interpretive exhibits at its components sites, China Camp State Park and Rush Ranch Open Space Preserve, that support on-site research and educational programs. This plan can be accessed at http://www.sfbaynerr.org

FOR FURTHER INFORMATION CONTACT: Alison Krepp at (301) 563-7105 or Laurie McGilvray at (301) 563-1158 of NOAA's National Ocean Service, Estuarine Reserves Division, 1305 East-West Highway, N/ORM5, 10th floor, Silver Spring, MD 20910.

Dated: December 22, 2010.
Donna Wieting,
Director, Office of Ocean and Coastal Resource Management, National Oceanic and Atmospheric Administration.

[FR Doc. 2011-504 Filed 1-11-11; 8:45 am]

BILLING CODE 3510-08-P